DEPARTMENT OF COMMERCE

Foreign-Trade Zones Board

[Order No. 1136]

Grant of Authority for Subzone Status; Sunoco, Inc. (Oil Refinery Complex), Toledo, Ohio

Pursuant to its authority under the Foreign-Trade Zones Act of June 18, 1934, as amended (19 U.S.C. 81a-81u), the Foreign-Trade Zones Board (the Board) adopts the following Order:

Whereas, the Foreign-Trade Zones Act provides for “* * * the establishment * * * of foreign-trade zones in ports of entry of the United States, to expedite and encourage foreign commerce, and for other purposes,” and authorizes the Foreign-Trade Zones Board to grant to qualified corporations the privilege of establishing foreign-trade zones in or adjacent to U.S. Customs ports of entry;

Whereas, the Board's regulations (15 CFR Part 400) provide for the establishment of special-purpose subzones when existing zone facilities cannot serve the specific use involved, and when the activity results in a significant public benefit and is in the public interest;

Whereas, the Toledo-Lucas County Port Authority, grantee of Foreign-Trade Zone 8, has made application to the Board for authority to establish special-purpose subzones status at the oil refinery complex of Sunoco, Inc., located in Toledo, Ohio (FTZ Docket 17-2000, filed 5/3/00);

Whereas, notice inviting pubic comment was given in the Federal Register (65 FR 31141, 5/16/00); and,

Whereas, the Board adopts the findings and recommendations of the examiner's report, and finds that the requirements of the FTZ Act and Board's regulations would be satisfied, and that approval of the application would be in the public interest if approval is subject to the conditions listed below;

Now, therefore, the Board hereby grants authority for subzone status at the oil refinery complex of Sunoco, Inc., located in Toledo, Ohio (Subzone 8H), at the locations described in the application, subject to the FTZ Act and the Board's regulations, including § 400.28, and subject to the following conditions:

1. Foreign status (19 CFR 146.41, 146.42) products consumed as fuel for the petrochemical complex shall be subject to the applicable duty rate.

2. Privileged foreign status (19 CFR 146.41) shall be elected on all foreign merchandise admitted to the subzone, except that non-privileged foreign (NPF) status (19 CFR 146.42) may be elected on inputs covered under HTSUS Subheadings #2710.00.05-#2710.00.10, #2710.00.25, and #2710.00.4510 which are used in the production of:

—Petrochemical feedstocks (examiner's report, Appendix “C”);

—Products for export; and,

—Products eligible for entry under HTSUS #9808.00.30 and #9808.00.40 (U.S. Government purchases).

Signed at Washington, DC, this 5th day of January 2001.
Troy H. Cribb,
Assistant Secretary of Commerce for Import Administration, Alternate Chairman, Foreign-Trade Zones Board.

Appendix C

Standard Appendix for Oil Refinery Subzones¹ Petrochemical Feedstocks/Refinery By-Products—NPF Status
| HTSUS No. | Duty rate
Benzene | 2707.10.00 | Free.
Toluene | 2707.20.00 | Free.
Xylenes | 2707.30.00 | Free.
Naphthalene | 2707.40.00 | Free.
Other Aromatic Hydrocarbon Mixtures | 2707.50.00 | Free.
Carbon Black Oil | 2707.99.50 2803.00.00 | Free. Free.
Distillates/Fuel Oils | 2710.00.05 2710.00.10 | 5.25¢/bbl. 10.5¢/bbl.
Kerosene | 2710.00.20 | 10.5¢/bbl.
Naphthas (except motor fuel & blendstocks) | 2710.00.25 | 10.5¢/bbl.
Mixtures of Hydrocarbons, not elsewhere specified | 2710.00.45 | 10.5¢/bbl.
Liquified Natural Gas | 2711.11.00 | Free.
Propane | 2711.12.00 | Free.
Butanes | 2711.13.00 | Free.
Ethylene, Propylene, Butylene, Butadiene | 2711.14.00 | Free.
Ethane, other Liquified Petroleum Gases | 2711.19.00 | Free.
Natural Gas, gaseous | 2711.21.00 | Free.
Gaseous Propane, Butane, other Petroleum Gases | 2711.29.00 | Free.
Paraffin Waxes & Petroleum Jelly | 2712.10.00-2712.90.20 | Free.
Petroleum Coke and Asphalt | 2713.11.00-2713.90.00 2714.10.00-2715.00.00 | Free. Free.
Sulfur | 2802.00.00 2503.00.00 | Free. Free.
Sulfuric Acid | 2807.00.00 | Free.
Acyclic Hydrocarbons:
Saturated
Ethane and Butane | 2901.10.10 | Free.
n-Pentane and Isopentane | 2901.10.30 | Free.
Other | 2901.10.40 | Free.
Unsaturated
Ethylene, Propylene, Butylene | 2901.21.00-2901.23.00 | Free.
Buta-1-3-diene | 2901.24.10 | Free.
Dicyclopentadiene | 2902.19.0010 | Free.
Cyclic Hydrocarbons:
Benzene, Toluene and Xylenes | 2902.20.00-2902.44.00 | Free.
Cumene | 2902.70.00 | Free.
Pseudocumene | 2902.90.10 | Free.
¹ This is a comprehensive list of finished products that may be produced with NPF inputs at the subzones designated in Appendix A (Fed. Reg. Notice of 9/2/99, 64 FR 48140) based on previous FTZ Board authorizations for oil refineries.

[FR Doc. 01-1681 Filed 1-19-01; 8:45 am]

BILLING CODE 3510-DS-M